DEPARTMENT OF HOMELAND SECURITY

U.S. Customs and Border Protection

[1651-0125]

Agency Information Collection Activities: Dominican Republic-Central America-United States Free Trade Agreement

AGENCY: U.S. Customs and Border Protection, Department of Homeland Security.

ACTION: 60-Day Notice and request for comments; extension of an existing collection of information.

SUMMARY: U.S. Customs and Border Protection (CBP) of the Department of Homeland Security will be submitting the following information collection request to the Office of Management and Budget (OMB) for review and approval in accordance with the Paperwork Reduction Act: Dominican Republic-Central America-United States Free Trade Agreement (CAFTA-DR). CBP is proposing that this information collection be extended with a change to the burden hours. This document is published to obtain comments from the public and affected agencies.

DATES: Written comments should be received on or before August 4, 2014 to be assured of consideration.

ADDRESSES: Direct all written comments to U.S. Customs and Border Protection, Attn: Tracey Denning, Regulations and Rulings, Office of International Trade, 90 K Street NE., 10th Floor, Washington, DC 20229-1177.

FOR FURTHER INFORMATION CONTACT: Requests for additional information should be directed to Tracey Denning, U.S. Customs and Border Protection, Regulations and Rulings, Office of International Trade, 90 K Street NE., 10th Floor, Washington, DC 20229-1177, at 202-325-0265.

SUPPLEMENTARY INFORMATION: CBP invites the general public and other Federal agencies to comment on proposed and/or continuing information collections pursuant to the Paperwork Reduction Act of 1995 (Pub. L. 104-13; 44 U.S.C. 3507). The comments should address: (a) Whether the collection of information is necessary for the proper performance of the functions of the agency, including whether the information shall have practical utility; (b) the accuracy of the agency's estimates of the burden of the collection of information; (c) ways to enhance the quality, utility, and clarity of the information to be collected; (d) ways to minimize the burden including the use of automated collection techniques or the use of other forms of information technology; and (e) the annual costs burden to respondents or record keepers from the collection of information (a total capital/startup costs and operations and maintenance costs). The comments that are submitted will be summarized and included in the CBP request for OMB approval. All comments will become a matter of public record. In this document, CBP is soliciting comments concerning the following information collection:

Title: Dominican Republic-Central America-United States Free Trade Agreement (CAFTA-DR).

OMB Number: 1651-0125.

Form Number: None.

Abstract: On August 5, 2004, the United States entered into the Dominican Republic-Central America-United States Free Trade Agreement (also known as CAFTA-DR) with Costa Rica, the Dominican Republic, El Salvador, Guatemala, Honduras, and Nicaragua. The Agreement was approved by Congress in section 101(a) of the Dominican Republic-Central America-United States Free Trade Agreement Implementation Act (Pub. L. 109-53, 119 Stat. 462) (19 U.S.C. 4001) and provides for preferential tariff treatment of certain goods originating in one or more of the CAFTA-DR countries. It was signed into law on August 2, 2005.

In order to ascertain if imported goods are eligible for preferential tariff treatment under CAFTA-DR, CBP collects a certification that contains information such as the name and contact information for importer and exporter; information about the producer of the good; a description of the good; the HTSUS tariff classification; and the applicable rule of origin. This collection of information is provided for by 19 CFR 10.583 through 19 CFR 10.592. Guidance on filing claims under CAFTA-DR may be found at: http://www.cbp.gov/trade/free-trade-agreements/cafta-dr.

Current Actions: This submission is being made to extend the expiration date with a change to the burden hours. There are no changes to the information collected.

Type of Review: Extension (with change).

Affected Public: Businesses.

Estimated Number of Respondents: 800.

Estimated Number of Responses per Respondent: 3.

Estimated Number of Total Annual Responses: 2,400.

Estimated Time per Response: 2 hours.

Estimated Total Annual Burden Hours: 4,800.

Dated: May 28, 2014.
Tracey Denning,
Agency Clearance Officer, U.S. Customs and Border Protection.

[FR Doc. 2014-12764 Filed 6-2-14; 8:45 am]

BILLING CODE 9111-14-P